COUNCIL ON ENVIRONMENTAL QUALITY

Carbon Dioxide Capture, Utilization and Sequestration (CCUS) Non-Federal Lands Permitting Task Force

AGENCY: Council on Environmental Quality (CEQ).

ACTION: Request for nominations.

SUMMARY: As required by the Utilizing Significant Emissions with Innovative Technologies (USE IT) Act, the Council on Environmental Quality (CEQ) is seeking member nominations from a diverse range of qualified candidates to serve on the “Carbon Dioxide Capture, Utilization and Sequestration (CCUS) Non-Federal Lands Permitting Task Force” (Non-Federal Task Force). Vacancies are anticipated to be filled by December 31, 2022.

DATES: CEQ must receive nominations by September 26, 2022.

ADDRESSES: You may submit nominations, identified by “CEQ CCUS Non-Federal Lands Permitting Task Force,” by email to ccus.taskforce@ceq.eop.gov.

Instructions: All nominations must include a resume; a short biography providing an adequate description of the nominee's qualifications (including information that will enable CEQ to make a determination as to whether the nominee meets the membership requirements of the Non-Federal Task Force); and contact information for the nominee. Interested candidates may self-nominate.

FOR FURTHER INFORMATION CONTACT: Deirdre F. Donahue, Senior Counsel, 730 Jackson Place NW, Washington, DC 20503, (202) 395-5750 or ccus.taskforce@ceq.eop.gov.

SUPPLEMENTARY INFORMATION: The USE IT Act, Div. S, sec. 102(d)(2)(D), Public Law 116-260, 134 Stat. 1182, directs the establishment of no less than two regionally based task forces to: (1) identify challenges and successes that permitting authorities, project developers, and operators face to permit CCUS projects in an efficient, orderly, and responsible manner; and (2) provide recommendations to improve the performance of the permitting process and regional coordination for the purpose of promoting the efficient, orderly, and responsible development of CCUS projects and carbon dioxide pipelines. The regulatory authorities and permitting frameworks differ on Federal lands and the Outer Continental Shelf, and non-Federal lands; therefore, one task force will address permitting and other challenges for CCUS projects on Federal lands and the Outer Continental Shelf, and the other task force will address permitting and other challenges for CCUS projects on non-Federal lands.

The purpose of this notice is to request nominations for membership on the Non-Federal Task Force, one of the two task forces that will be established under the Federal Advisory Committee Act (FACA), as amended, 5 U.S.C. App. 2, and its implementing regulations at 41 CFR parts 101-6 and 102-3. A separate Federal Register notice seeking member nominations for the Carbon Dioxide Capture, Utilization and Sequestration (CCUS) Federal Lands and Outer Continental Shelf Permitting Task Force has been issued simultaneously with this notice.

Members will be selected by the Council on Environmental Quality (CEQ) Chair pursuant to the USE IT Act. As required by FACA, the Non-Federal Task Force membership will be fairly balanced in terms of the points of view represented and the functions to be performed by the Non-Federal Task Force. Members of the Non-Federal Task Force will serve without compensation. However, each member may be reimbursed for authorized travel and per diem expenses incurred while attending Non-Federal Task Force meetings in accordance with Federal Travel Regulations. The Non-Federal Task Force shall meet not less than twice each year. To the maximum extent practicable, all task forces established under this provision of the USE IT Act shall meet collectively not less than once each year.

Responsibilities of the Non-Federal Task Force

As provided by the USE IT Act, the duties of the Non-Federal Task Force will be to:

• Inventory existing or potential Federal and state approaches to facilitate reviews associated with the deployment of CCUS projects and carbon dioxide pipelines, including best practices that avoid duplicative reviews to the extent permitted by law; engage stakeholders early in the permitting process; and make the permitting process efficient, orderly, and responsible;

• Develop common models for state-level carbon dioxide pipeline regulation and oversight guidelines that can be shared with states in the geographical area covered by the Non-Federal Task Force;

• Provide technical assistance to states in implementing regulatory requirements and models developed by the Non-Federal Task Force;

• Inventory current or emerging activities that transform captured carbon dioxide into a product of commercial value, or as an input to products of commercial value;

• Identify any priority carbon dioxide pipelines needed to enable efficient, orderly, and responsible development of CCUS projects at increased scale;

• Identify gaps in the current Federal and state regulatory framework and in existing data for the deployment of CCUS projects and carbon dioxide pipelines;

• Identify Federal and state financing mechanisms available to project developers; and

• Develop recommendations for relevant Federal agencies on how to develop and research technologies that can capture carbon dioxide and would be able to be deployed within the region covered by the Non-Federal Task Force including any projects that have received technical or financial assistance for research under section 103(g)(6) of the Clean Air Act (42 U.S.C. 7403(g)).

Vacancies to Fill

The Non-Federal Task Force must include no less than one representative in each of the following categories as specified in the USE IT Act. Div. S, sec. 102(d)(2)(D)(ii)(II), Public Law 116-260, 134 Stat.1182. Nominations are sought to fill at least one position in each category:

• Any state that requests participation in the geographical area covered by the Non-Federal Task Force;

• Developers or operators of CCUS projects or carbon dioxide pipelines;

• Nongovernmental membership organizations, the primary mission of which concerns protection of the environment;

The USE IT Act also requires one expert in each of the following fields:

• Health and environmental effects, including exposure evaluation; and

• Pipeline safety.

In addition, members may also include not less than one representative in each of the following categories at the request of a Tribal or local government:

• A local government in the geographical area covered by the Non-Federal Task Force; and

• A Tribal government in the geographical area covered by the Non-Federal Task Force.

To ensure that recommendations of the Non-Federal Task Force have considered the needs of diverse groups served by the Federal Government, opportunities will be sought to increase diversity, equity, inclusion, and accessibility for the membership of the Non-Federal Task Force. Please note that federally registered lobbyists serving in an “individual capacity” are ineligible for appointment or reappointment.

In selecting members, CEQ will consider technical expertise, coverage of broad stakeholder perspectives, diversity, and the duties of the Non-Federal Task Force as outlined in the USE IT Act. CEQ will use the following criteria to evaluate nominees:

• Background and experiences that help members contribute to the diversity of perspectives on the Non-Federal Task Force;

• Experience working for a state, Tribal, or local government on regulatory and permitting issues associated with CCUS projects and CO2 pipelines;

• CCUS and pipeline project development experience, or expertise and experience in closely related fields from a project developer, private sector perspective;

• Experience working for environmental nongovernmental organizations;

• Experience working on environmental justice issues at the national, state, or local level;

• Expertise in health and environmental effects of carbon dioxide, including exposure evaluation;

• Expertise in Federal and state financing mechanisms available to project developers;

• Expertise in the regulation, siting, and safety of carbon dioxide pipelines;

• Experience or expertise in emerging activities to transform CO2 into a product of commercial value;

• Demonstrated experience working on environmental, public health, and climate change issues;

• Experience and/or responsibilities associated with Federal and state regulations and permitting requirements associated with CCUS projects and carbon dioxide pipelines, including but not limited to experience obtaining and/or issuing permits/rights of way/leases and knowledge regarding state legal requirements, processes, timeframes, costs, barriers, public engagement requirements, state environmental requirements as well as opportunities to improve/enhance all of the above;

• Executive management-level experience;

• Excellent interpersonal, oral and written communication and consensus-building skills; and

• Ability to volunteer time to attend meetings and to contribute to the duties assigned to the Non-Federal Task Force.

Matthew Lee-Ashley,
Chief of Staff.

[FR Doc. 2022-16104 Filed 7-27-22; 8:45 am]

BILLING CODE 3225-F2-P